DEPARTMENT OF TRANSPORTATION

Office of the Secretary

Notice of Applications for Certificates of Public Convenience and Necessity and Foreign Air Carrier Permits Filed Under Subpart B (Formerly Subpart Q) During the Week Ending November 7, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0287.

Date Filed: November 2, 2009.

Due Date for Answers, Conforming Applications, or Motion to Modify Scope: November 23, 2009.

Description: Application of Brussels Airlines NV/SA (“Brussels Airlines”) requesting an amended exemption authority and the issuance of a foreign air carrier permit to conduct scheduled and charter services, including; (i) Foreign scheduled and charter air transportation of persons, property and mail from any point or points behind any Member State(s) of the European Union, via any point or points in any Member State(s) and via intermediate points to any point or points in the United States and beyond; (ii) foreign scheduled and charter air transportation of persons, property and mail between any point or points in the United States and any point or points in any member of the European Common Aviation Area; (iii) foreign scheduled and charter cargo air transportation between any point or points in the United States and any other point or points; (iv) other charters; and (v) transportation authorized by any additional route rights made available to European Community carriers in the future. Brussels Airlines further requests a corresponding exemption to the extent necessary to enable it to provide the service described above pending issuance of a foreign air carrier permit and such additional or other relief as the Department may deem necessary or appropriate.

Docket Number: DOT-OST-2005-20491.

Date Filed: November 5, 2009.

Due Date for Answers, Conforming Applications, or Motion to Modify Scope: November 27, 2009.

Description: Application of NetJets—Transportes Aereos, S.A. (“NTA”) requesting a renewal and amended exemption and a foreign air carrier permit authorizing NTA to engage in charter foreign air transportation of persons, property and mail to and from points in the United States to the full extent permitted by its homeland operating authority and the EU-U.S. open-skies agreement.

Renee V. Wright,
Program Manager, Docket Operations, Federal Register Liaison.

[FR Doc. E9-28249 Filed 11-24-09; 8:45 am]

BILLING CODE 4910-9X-P